DEPARTMENT OF COMMERCE

International Trade Administration

[A-570-601]

Tapered Roller Bearings and Parts Thereof, Finished or Unfinished, from the People's Republic of China: Final Results of 2005-2006 Administrative Review and Partial Rescission of Review

AGENCY: Import Administration, International Trade Administration, Department of Commerce.

SUMMARY: The Department of Commerce (“the Department”) published its preliminary results of administrative review of the antidumping duty order on tapered roller bearings and parts thereof, finished and unfinished (“TRBs”), from the People's Republic of China (“PRC”) on March 26, 2007. The period of review (“POR”) is June 1, 2005, through May 31, 2006. We invited interested parties to comment on our preliminary results. Based on our analysis of the comments received, we have made changes to our preliminary results. Therefore, the final results differ from the preliminary results. The final dumping margins for this review are listed in the “Final Results of Review” section below.

EFFECTIVE DATE: October 4, 2007.

FOR FURTHER INFORMATION CONTACT: Paul Stolz, AD/CVD Operations, Office 8, Import Administration, International Trade Administration, U.S. Department of Commerce, 14th Street and Constitution Avenue, NW, Washington, DC 20230; telephone (202) 482-4474.

SUPPLEMENTARY INFORMATION:

Background

On March 26, 2007, the Department published its preliminary results. See Tapered Roller Bearings and Parts Thereof, Finished or Unfinished, from the People's Republic of China: Preliminary Results of Antidumping Duty Administrative Review and Notice of Rescission in Part and Intent to Rescind in Part, 72 FR 14078 (March 26, 2007) (“Preliminary Results”). On March 30, 2007, the Timken Company (i.e., Petitioner) submitted a case brief. On April 25, 2007, Peer Bearing Company-Changshan (“CPZ”) submitted a case brief. On April 30, 2007, Petitioner and CPZ each submitted a rebuttal brief.¹ Yantai Timken Company Limited (“Yantai”), Chin Jun Industrial Ltd. (“Chin Jun”), and Hebei Longsheng Metals & Minerals Trade Co., Ltd. (“Hebei”) did not submit case briefs or rebuttal briefs. In the Preliminary Results we preliminarily rescinded the review with respect to Chin Jun and Hebei. No interested party requested a hearing.

¹ Yantai withdrew its request for review within the applicable deadline on September 6, 2006, stating that it did not intend to participate further in the review. However, Koyo Corporation of U.S.A., a U.S. producer of TRBs, also requested a review of Yantai. Therefore, the Department did not rescind the review of Yantai.

We have conducted this administrative review in accordance with section 751 of the Tariff Act of 1930, as amended (“the Act”), and 19 CFR 351.213.

Scope of Order

Merchandise covered by the order is TRBs from the PRC; flange, take-up cartridge, and hanger units incorporating tapered roller bearings; and tapered roller housings (except pillow blocks) incorporating tapered rollers, with or without spindles, whether or not for automotive use. This merchandise is currently classifiable under the Harmonized Tariff Schedule of the United States (“HTSUS”) item numbers 8482.20.00, 8482.91.00.50, 8482.99.15, 8482.99.45 ², 8483.20.40, 8483.20.80, 8483.30.80, 8483.90.20, 8483.90.30, 8483.90.80, 8708.99.80.15, and 8708.99.80.80. Although the HTSUS item numbers are provided for convenience and customs purposes, the written description of the scope of the order is dispositive.

² In the preceding POR, Petitioner argued that in 1995 HTSUS subheading 8482.99.30, included in the scope description, was split and replaced by HTSUS 8482.99.15 for cups and other rings (cones), and HTSUS 8482.99.45 for other TRBs parts. The Department agreed and stated that “ . . . for the final results, the Department will use HTSUS 8482.99.15 for cups and other rings (cones) and HTSUS 8482.99.45 for other parts of TRBs. See Tapered Roller Bearings and Parts Thereof, Finished and Unfinished, from the People's Republic of China: Final Results of 2004-2005 Administrative Review and Partial Rescission of Review, 71 FR 75936 (December 19, 2006), and accompanying Issues and Decision Memorandum at Comment 1. The Department inadvertently failed to reflect this change in the Preliminary Results and in these final results is replacing HTSUS 8482.99.30 with HTSUS 8482.99.15 and HTSUS 8482.99.45 in the scope description. See the concurrent Issues and Decision Memorandum at Comment 1 for further discussion.

Rescission of Review

In our Preliminary Results, we stated we preliminarily rescinded the review with respect to Chin Jun in accordance with 19 CFR 351.213(d)(3) and with respect to Heibei in accordance with 19 CFR 351.213(d)(1). Chin Jun reported that it had no sales or exports of subject merchandise to the United States during the POR. Hebei withdrew its request for review within the applicable deadline. No other party requested a review of Hebei. See Preliminary Results, 72 FR at 14078. We reviewed customs import data and found no evidence that Chin Jun had any shipments of subject merchandise during the POR. In addition, on February 28, 2007, we made a “No Shipments Inquiry” to U.S. Customs and Border Protection (“CBP”) stating that records at the Department did not evidence exports of subject merchandise by Chin Jun during the POR. We asked CBP to notify us within ten days if CBP “has contrary information and is suspending liquidation” of subject merchandise exported by Chin Jun. CBP did not reply with contrary information.

Therefore, we are rescinding the administrative review with respect to Chin Jun and Hebei.

Analysis of Comments Received

All issues raised in the post-preliminary comments by parties in this review are addressed in the memorandum from Stephen J. Claeys, Deputy Assistant Secretary for Import Administration, to David M. Spooner, Assistant Secretary for Import Administration, “Issues and Decision Memorandum for the Final Results of the 19th Administrative Review of the Antidumping Duty Order on Tapered Roller Bearings and Parts Thereof, Finished and Unfinished, from the People's Republic of China,” dated September 24, 2007 (“Issues and Decision Memorandum”), which is hereby adopted by this notice. A list of the issues which parties raised and to which we responded in the Issues and Decision Memorandum is attached to this notice as an appendix. The Issues and Decision Memorandum is a public document which is on file in the Central Records Unit in room B-099 in the main Department building, and is accessible on the Web at http://ia.ita.doc.gov/frn. The paper copy and electronic version of the memorandum are identical in content.

Application of Total Adverse Facts Available

CPZ and Yantai did not submit responses to the Department's questionnaires issued in this segment of the proceeding. In the Preliminary Results, the Department stated that because CPZ and Yantai failed to submit questionnaire responses, they had not demonstrated their entitlement to a separate rate and were therefore subject to the PRC-wide rate. See Preliminary Results, 72 FR 14079. Furthermore, we found in the Preliminary Results that because the PRC-wide entity failed to respond to the Department's questionnaires, withheld or failed to provide information in a timely manner or in the form or manner requested by the Department, or otherwise impeded the proceeding, it was appropriate to apply a dumping margin for the PRC-wide entity using facts otherwise available on the record and that an adverse inference was appropriate. See Preliminary Results 72 FR at 14079. We continue to find that the application of the country-wide rate of 60.95 percent, as total adverse facts available (“AFA”), is appropriate. See the Issues and Decision Memorandum at Comment 3 for further discussion.

Corroboration of Secondary Information

Section 776(c) of the Act requries that the Department corroborate, to the extent practicable, a figure which it applies as facts available. The Department corroborated the AFA country-wide rate of 60.95 percent in the Preliminary Results. The Department found that this rate has probative value because it is reliable and relevant. In the Preliminary Results, we found the 60.95 percent rate to be reliable because it was calculated for a respondent company in the final results of redetermination on remand from the Court of International Trade, for the seventh administrative review of TRBs (covering the period June 1, 1993, to May 31, 1994). See Preliminary Results, 72 FR at14080 (citing Tapered Roller Bearings and Parts Thereof, Finished and Unfinished From the People's Republic of China; Amended Final Results of Antidumping Duty Administrative Review, 67 FR 79902 (December 31, 2002), and Tapered Roller Bearings and Parts Thereof, Finished and Unfinished, from the People's Republic of China; Amended Final Results of Antidumping Duty Administrative Review, 69 FR 10423 (March 5, 2004)). In the Preliminary Results, the Department determined the 60.95 percent rate was relevant because no record evidence called it into question. See Preliminary Results, 72 FR at 46963. Further, in our recently completed final results for the 2003-2004 review of TRB's, we corroborated and applied the 60.95 percent rate to the PRC-wide entity as AFA. See Tapered Roller Bearings and Parts Thereof, Finished and Unfinished, from the People's Republic of China: Preliminary Results of Antidumping Duty Administrative Review and Notice of Intent to Rescind in Part, 70 FR 39744 (July 11, 2005); Tapered Roller Bearings and Parts Thereof, Finished and Unfinished, from the People's Republic of China: Final Results of 2003-2004 Administrative Review and Partial Rescission of Review, 71 FR 2517 (January 17, 2006); and Tapered Roller Bearings and Parts Thereof, Finished and Unfinished from the People's Republic of China: Amended Final Results of Administrative Review, 71 FR 9521 (February 24, 2006). For the final results, we continue to find that the 60.95 percent rate is reliable and relevant and therefore corroborated. See the Issues and Decision Memorandum at Comment 3 for further discussion.

Changes Since the Preliminary Results

Based on our analysis of comments received, we revised the scope description to account for updated HTSUS numbers. See the Issues and Decisoin Memorandum at Comment 1 for further discussion.

Final Results of Review

We determine that the following dumping margin exists for the period June 1, 2005, through May 31, 2006:

TRBs from the PRC
Exporter | Weighted-Average Margin (Percent)
PRC-Wide Entity | 60.95

Assessment Rates

The Department intends to issue assessment instructions to CBP 15 days after the date of publication of these final results of administrative review.

Cash Deposit Requirements

The following cash deposit rates will be effective upon publication of the final results of this administrative review for all shipments of the subject merchandise entered, or withdrawn from warehouse, for consumption on or after the publication date, as provided for by section 751(a)(2)(C) of the Act: (1) the cash deposit rate for previously investigated or reviewed PRC and non-PRC exporters who received a separate rate in a prior segment of the proceeding (which were not reviewed in this segment of the proceeding) will continue to be the rate assigned in that segment of the proceeding; (2) the cash deposit rate for all PRC exporters of subject merchandise that have not been found to be entitled to a separate rate, the cash deposit rate will be the PRC-wide rate of 60.95 percent; and (3) the cash deposit rate for all non-PRC exporters of subject merchandise which have not received their own rate, will be the rate applicable to the PRC exporters that supplied that non-PRC exporter. These requirements shall remain in effect until further notice.

Notification of Interested Parties

This notice also serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

This notice also serves as a reminder to parties subject to administrative protective orders (“APOs”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing this determination and notice in accordance with sections 751(a)(1) and 777(i)(1) of the Act.

Dated: September 24, 2007.
Joseph A. Spetrini,
Deputy Assistant Secretary for Import Administration.

APPENDIX

List of Comments and Issues in the Decision Memorandum

Comment 1: Outdated TRBs Tariff Classification

Comment 2: CPZ's Separate Rate Status

Comment 3: The Country-wide Rate

[FR Doc. E7-19659 Filed 10-3-07; 8:45 am]

BILLING CODE 3510-DS-S